DEPARTMENT OF ENERGY

[FE Docket Nos. 04-41-NG, 04-04-LNG, 04-43-NG, 04-42-LNG, 04-44-NG]

Office of Fossil Energy; OGE Energy Resources, Inc., Excelerate Energy L.P., Northwest Natural Gas Company, Shell NA LNG LLC, NJR Energy Services Company; Orders Granting Authority to Import and Export Natural Gas, Including Liquefied Natural Gas

AGENCY: Office of Fossil Energy, DOE.

ACTION: Notice of orders.

SUMMARY: The Office of Fossil Energy (FE) of the Department of Energy gives notice that during March 2004, it issued Orders granting authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on May 7, 2004.
Sally Kornfeld,
Manager, Natural Gas Regulation, Office of Natural Gas & Petroleum, Import & Export Activities, Office of Fossil Energy.

Appendix—Orders Granting, Transferring, and Vacating Import/Export Authorizations
[DOE/FE authority]
Order No. | Date issued | Importer/exporter FE docket No. | Import volume | Export volume | Comments
1972 | 4-9-04 | OGE Energy Resources, Inc. 04-41-NG | 400 Bcf |  | Import and export a combined total of natural gas from and to Canada, beginning on May 1, 2004, and continuing through April 30, 2006.
1939 | 4-9-04 | Excelerate Energy L.P. 04-04-LNG |  |  | Errata Notice: Language change to LNG may be imported at any receiving facility in the United States or its territories.
1973 | 4-16-04 | Northwest Natural Gas Company 04-43-NG | 300 Bcf |  | Import and export a combined total of natural gas from and to Canada, beginning on May 1, 2004, and continuing through April 30, 2006.
1978 | 4-16-04 | Shell NA LNG LLC 04-42-LNG | 800 Bcf |  | Import liquefied natural gas from various sources beginning on April 29, 2004 and extending through April 28, 2006.
1976 | 4-19-04 | NJR Energy Services Company 04-44-NG | 200 Bcf |  | Import and export a combined total of natural gas from and to Canada, beginning on April 19, 2004, and continuing through April 18, 2006.

[FR Doc. 04-11103 Filed 5-14-04; 8:45 am]

BILLING CODE 6450-01-P